DEPARTMENT OF HOMELAND SECURITY

National Communications System

[Docket No. NCS-2010-0001]

President's National Security Telecommunications Advisory Committee

AGENCY: National Communications System, DHS.

ACTION: Notice of open advisory committee meeting.

SUMMARY: The President's National Security Telecommunications Advisory Committee (NSTAC) will hold its annual meeting on May 6, 2010. The meeting will be open to the public.

DATES: May 6, 2010, from 2:30 p.m. until 5:30 p.m.

ADDRESSES: The meeting will take place at the U.S. Chamber of Commerce, 1615 H Street, NW., Washington, DC. If you desire meeting materials, please contact Ms. Sue Daage at (703) 235-4964 or by e-mail at sue.daage@dhs.gov by 5 p.m. April 29, 2010. If you desire to submit comments regarding the May 6, 2010, meeting, comments must be identified by Docket No. NCS-2010-0001 and may be submitted by one of the following methods:

• Federal eRulemaking Portal: http://www.regulations.gov. Follow the instructions for submitting comments.

• E-mail: NSTAC1@dhs.gov. Include docket number in the subject line of the message.

• Mail: Office of the Manager, National Communications System, Government Industry Planning and Management Branch, Department of Homeland Security, 245 Murray Lane, SW., Washington, DC 20598-0615.

• Fax: (866) 466-5370.

Instructions: All submissions received must include the words “Department of Homeland Security” and NCS-2010-0001, the docket number for this action. Comments received will be posted without alteration at http://www.regulations.gov, including any personal information provided.

Docket: For access to the docket, background documents or comments received by the NSTAC, go to http://www.regulations.gov.

FOR FURTHER INFORMATION CONTACT: Ms. Sue Daage, Government Industry Planning and Management Branch, at (703) 235-4964, e-mail: sue.daage@dhs.gov, or write to the Deputy Manager, National Communications System, Department of Homeland Security, 245 Murray Lane, SW., Washington, DC 20598-0615.

SUPPLEMENTARY INFORMATION: The NSTAC advises the President on issues and problems related to implementing national security and emergency preparedness telecommunications policy. Notice of this meeting is given under the Federal Advisory Committee Act (FACA), Public Law 92-463 (1972), as amended appearing in 5 U.S.C. App. 2. At the upcoming meeting, the NSTAC Principals will receive Government stakeholder comments and updates on the progress of the Communications Resiliency Task Force and the Cybersecurity Collaboration Task Force.

Dated: March 24, 2010.
James Madon,
Director, National Communications System.

[FR Doc. 2010-7205 Filed 3-30-10; 8:45 am]

BILLING CODE P